FEDERAL ELECTION COMMISSION

Sunshine Act Notices

Date and Time: Thursday, May 14, 2009, at 10 a.m.

Place: 999 E Street, NW., Washington, DC (Ninth Floor).

Status: This meeting will be open to the public.

The Following Item has been Added to the Agenda: Report of the audit division on Friends of Weiner.

Individuals who plan to attend and require special assistance, such as sign language interpretation or other reasonable accommodations, should contact Mary Dove, Commission Secretary, at (202) 694-1040, at least 72 hours prior to the hearing date.

PERSON TO CONTACT FOR INFORMATION: Judith Ingram, Press Officer, Telephone: (202) 694-1220.

Mary W. Dove,
Secretary of the Commission.

[FR Doc. E9-11479 Filed 5-18-09; 8:45 am]

BILLING CODE 6715-01-M